DEPARTMENT OF TRANSPORTATION

Federal Aviation Administration

14 CFR Part 95

[Docket No. 31579; Amdt. No. 582]

IFR Altitudes; Miscellaneous Amendments

AGENCY: Federal Aviation Administration (FAA), Department of Transportation (DOT).

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective date: 0901 UTC, 26 December 2024.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., STB Annex, Bldg. 26, Room 217, Oklahoma City, OK 73169-6918. Telephone: (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on November 22, 2024.
Thomas J. Nichols,
Aviation Safety, Flight Standards Service, Manager, Standards Section, Flight Procedures & Airspace Group, Flight Technologies and Procedures Division.

Adoption of the Amendment

Accordingly, pursuant to the authority delegated to me by the Administrator, part 95 of the Federal Aviation Regulations (14 CFR part 95) is amended as follows effective at 0901 UTC, 26 December 2024.

PART 95—IFR ALTITUDES

1. The authority citation for part 95 continues to read as follows:

Authority: 49 U.S.C. 106(g), 40103, 40113, and 14 CFR 11.49(b)(2).

2. Part 95 is amended to read as follows:

Revisions to IFR Altitudes & Changeover Point
[Amendment 582 effective date December 26, 2024]
From | To | MEA
Color Routes
§ 95.5 Green Federal Airway G16 Is Amended To Delete
POINT LAY, AK NDB | WAINWRIGHT VILLAGE, AK NDB | *1700
*1200—MOCA |  | MAA—17500
WAINWRIGHT VILLAGE, AK NDB | BROWERVILLE, AK NDB | 2000 MAA—17500
BROWERVILLE, AK NDB | NUIQSUT VILLAGE, AK NDB | 1600
| COP 050UQS | MAA—17500
NUIQSUT VILLAGE, AK NDB | PUT RIVER, AK NDB | 1700 MAA—17500
§ 95.11 Amber Federal Airway A17 Is Amended To Delete
CHENA, AK NDB | *CHANDALAR LAKE, AK NDB | 7000
*10000—MCA CHANDALAR LAKE, AK NDB, NW BND |  | MAA—17500
CHANDALAR LAKE, AK NDB | PUT RIVER, AK NDB | 10000 MAA—17500
§ 95.10 Amber Federal Airway A3 Is Amended To Delete
EVANSVILLE, AK NDB | PUT RIVER, AK NDB | 10000 MAA—17500

From | To | MEA | MAA
§ 95.3000 Low Altitude RNAV Routes
§ 95.3487 RNAV Route T487 Is Added To Read
SEATTLE, WA VORTAC | LOFAL, WA FIX | 4000 | 17500
LOFAL, WA FIX | U.S. CANADIAN BORDER | 5400 | 17500
§ 95.4000 High Altitude RNAV Routes
§ 95.4001 RNAV Route Q1 Is Amended by Adding
ELMAA, WA FIX | U.S. CANADIAN BORDER | *18000 | 45000
*18000—GNSS MEA
*DME/DME/IRU MEA
Is Amended To Read in Part
ERAVE, WA WP | ELMAA, WA FIX | *18000 | 45000
*18000—GNSS MEA
*DME/DME/IRU MEA
§ 95.4010 RNAV Route Q10 Is Amended by Adding
EMMONAK, AK VOR/DME | ANIAK, AK FIX | *18000 | 45000
*GNSS REQUIRED
ANIAK, AK FIX | SPARREVOHN, AK VOR/DME | *18000 | 45000
*GNSS REQUIRED
SPARREVOHN, AK VOR/DME | AKGAS, AK FIX | *18000 | 45000
*GNSS REQUIRED
AKGAS, AK FIX | KENAI, AK VOR/DME | *18000 | 45000
*GNSS REQUIRED
KENAI, AK VOR/DME | MIDDLETON ISLAND, AK VOR/DME | *18000 | 45000
*GNSS REQUIRED
§ 95.4083 RNAV Route Q83 Is Amended To Delete
EFFAY, SC WP | SLOJO, SC WP | *18000 | 45000
*18000—GNSS MEA
*DME/DME/IRU MEA
Is Amended by Adding
EFFAY, SC WP | WHTTL, NC WP | *18000 | 45000
*18000—GNSS MEA
*DME/DME/IRU MEA
WHTTL, NC WP | GREENSBORO, NC VORTAC | *18000 | 45000
*18000—GNSS MEA
*DME/DME/IRU MEA
Is Amended To Read in Part
ROYCO, GA WP | WURFL, SC WP | *18000 | 45000
*18000—GNSS MEA
*DME/DME/IRU MEA
WURFL, SC WP | EFFAY, SC WP | *18000 | 45000
*18000—GNSS MEA
*DME/DME/IRU MEA
§ 95.4902 RNAV Route Q902 Is Amended To Delete
SEATTLE, WA VORTAC | ORCUS, WA WP | *18000 | 45000
*GNSS REQUIRED
ORCUS, WA WP | U.S. CANADIAN BORDER | *18000 | 45000
*GNSS REQUIRED
U.S. CANADIAN BORDER | ANNETTE ISLAND, AK VOR/DME | *18000 | 45000
*GNSS REQUIRED
ANNETTE ISLAND, AK VOR/DME | GESTI, AK FIX | *18000 | 45000
*GNSS REQUIRED
GESTI, AK FIX | DOOZI, AK FIX | *18000 | 45000
*GNSS REQUIRED
DOOZI, AK FIX | LEVEL ISLAND, AK VOR/DME | *18000 | 45000
*GNSS REQUIRED
LEVEL ISLAND, AK VOR/DME | HOODS, AK FIX | *18000 | 45000
*GNSS REQUIRED
HOODS, AK FIX | SISTERS ISLAND, AK VORTAC | *18000 | 45000
*GNSS REQUIRED
SISTERS ISLAND, AK VORTAC | U.S. CANADIAN BORDER | *18000 | 45000
*GNSS REQUIRED
U.S. CANADIAN BORDER | NORTHWAY, AK VORTAC | *18000 | 45000
*GNSS REQUIRED
NORTHWAY, AK VORTAC | RDFLG, AK FIX | *18000 | 45000
*GNSS REQUIRED
RDFLG, AK FIX | HRDNG, AK FIX | *18000 | 45000
*GNSS REQUIRED
HRDNG, AK FIX | FAIRBANKS, AK VORTAC | *18000 | 45000
*GNSS REQUIRED
FAIRBANKS, AK VORTAC | KOTZEBUE, AK VOR/DME | *18000 | 45000
*GNSS REQUIRED
Is Added To Read
KOTZEBUE, AK VOR/DME | FAIRBANKS, AK VORTAC | *18000 | 45000
*GNSS REQUIRED
FAIRBANKS, AK VORTAC | NORTHWAY, AK VORTAC | *18000 | 45000
*GNSS REQUIRED
NORTHWAY, AK VORTAC | U.S. CANADIAN BORDER | *18000 | 45000
*GNSS REQUIRED
U.S. CANADIAN BORDER | SISTERS ISLAND, AK VORTAC | *18000 | 45000
*GNSS REQUIRED
SISTERS ISLAND, AK VORTAC | LEVEL ISLAND, AK VOR/DME | *18000 | 45000
*GNSS REQUIRED
LEVEL ISLAND, AK VOR/DME | ANNETTE ISLAND, AK VOR/DME | *18000 | 45000
*GNSS REQUIRED
ANNETTE ISLAND, AK VOR/DME | U.S. CANADIAN BORDER | *18000 | 45000
*GNSS REQUIRED
U.S. CANADIAN BORDER | SEATTLE, WA VORTAC | *18000 | 45000
*GNSS REQUIRED

From | To | MEA
§ 95.6001 Victor Routes—U.S
§ 95.6009 VOR Federal Airway V9 Is Amended To Delete
SPINNER, IL VORTAC | PONTIAC, IL VOR/DME | *3000
*2300—MOCA |  | MAA—17500
Is Amended To Read in Part
ST LOUIS, MO VORTAC | SPINNER, IL VORTAC | *2700
*2200—MOCA |  | MAA—17500
§ 95.6041 VOR Federal Airway V41 Is Amended To Delete
CUTTA, OH FIX | YOUNGSTOWN, OH VORTAC | *5000
*3600—GNSS MEA |  | MAA—17500
§ 95.6048 VOR Federal Airway V48 Is Amended To Delete
PEORIA, IL VORTAC | MAROC, IL FIX | *3000
*2400—MOCA |  | MAA—17500
MAROC, IL FIX | PONTIAC, IL VOR/DME | 2500 MAA—17500
§ 95.6069 VOR FEDERAL AIRWAY V69 Is Amended To Delete
SPINNER, IL VORTAC | PONTIAC, IL VOR/DME | *3000
*2300—MOCA |  | MAA—17500
PONTIAC, IL VOR/DME | JOLIET, IL VOR/DME | *3000
*2300—MOCA |  | MAA—17500
§ 95.6147 VOR Federal Airway V147 Is Amended To Read in Part
SLATT, PA FIX | WILKES-BARRE, PA VORTAC | 4000 MAA—17500
§ 95.6173 VOR Federal Airway V173 Is Amended To Read in Part
SPINNER, IL VORTAC | JILLY, IL FIX | *4500
*2400—MOCA |  | MAA—17500
§ 95.6227 VOR Federal Airway V227 Is Amended To Delete
ROBERTS, IL VOR/DME | PONTIAC, IL VOR/DME | 3000 MAA—17500
PONTIAC, IL VOR/DME | PLANO, IL FIX | 3000 MAA—17500
§ 95.6233 VOR Federal Airway V233 Is Amended To Delete
MOUNT PLEASANT, MI VOR/DME | CARGA, MI FIX | 5500 MAA—17500
CARGA, MI FIX | GAYLORD, MI VOR/DME | 4000 MAA—17500
GAYLORD, MI VOR/DME | PELLSTON, MI VORTAC | 3200 MAA—17500
§ 95.6262 VOR Federal Airway V262 Is Amended To Read in Part
PEORIA, IL VORTAC | BRADFORD, IL VORTAC | 2700 MAA—17500
§ 95.6313 VOR Federal Airway V313 Is Amended To Delete
ADDERS, IL VORTAC | PONTIAC, IL VOR/DME | 3000 MAA—17500
§ 95.6321 VOR Federal Airway V321 Is Amended To Read in Part
PECAN, GA VOR/DME | KUTVE, GA FIX | 2600 MAA—17500
KUTVE, GA FIX | *PREST, GA FIX | 2600
*7000—MCA PREST, GA FIX, NW BND |  | MAA—17500
PREST, GA FIX | *RSVLT, GA FIX | **7000
*7000—MCA RSVLT, GA FIX, SE BND
**3300—MOCA |  | MAA—17500
RSVLT, GA FIX | LAGRANGE, GA VORTAC | 2700 MAA—17500
§ 95.6420 VOR Federal Airway V420 Is Amended To Delete
TRAVERSE CITY, MI VOR/DME | GAYLORD, MI VOR/DME | *3000
*TRAVERSE CITY R-062 UNUSABLE USE GAYLORD R-247 |  | MAA—17500
GAYLORD, MI VOR/DME | ALPENA, MI VORTAC | 3200 MAA—17500
§ 95.6495 VOR Federal Airway V495 Is Amended To Delete
U.S. CANADIAN BORDER | WHATCOM, WA VORTAC | *3000
*1900—MOCA |  | MAA—17500
WHATCOM, WA VORTAC | U.S. CANADIAN BORDER | 3000 MAA—17500
U.S. CANADIAN BORDER | *JAWBN, WA FIX | **5400
*MTA V495 SE TO V4 W 8000
**4300—MOCA |  | MAA—17500
JAWBN, WA FIX | LOFAL, WA FIX | *5400
*4300—MOCA |  | MAA—17500
LOFAL, WA FIX | *SEATTLE, WA VORTAC | **4000
*4700—MCA SEATTLE, WA VORTAC, S BND
**2800—MOCA |  | MAA—17500
SEATTLE, WA VORTAC | CIDUG, WA FIX
| S BND | *9000
| N BND | *5000
*3000—GNSS MEA |  | MAA—17500
CIDUG, WA FIX | *ALDER, WA FIX
| S BND | **9000
| N BND | **5000
*9000—MCA ALDER, WA FIX, S BND
**4200—GNSS MEA |  | MAA—17500
ALDER, WA FIX | *TOUTL, WA FIX | **9000
*9000—MCA TOUTL, WA FIX, N BND
**7000—GNSS MEA |  | MAA—17500
TOUTL, WA FIX | BATTLE GROUND, WA VORTAC
| N BND | *9000
| S BND | *5300
*5300—GNSS MEA |  | MAA—17500
BATTLE GROUND, WA VORTAC | NEWBERG, OR VOR/DME | 4000 MAA—17500
NEWBERG, OR VOR/DME | CORVALLIS, OR VOR/DME | *4000
*3400—MOCA |  | MAA—17500
CORVALLIS, OR VOR/DME | HORTE, OR FIX | 4000 MAA—17500
HORTE, OR FIX | *VAUGN, OR FIX
| S BND | 7000
| N BND | 4000
*7000—MRA |  | MAA—17500
VAUGN, OR FIX | ROSEBURG, OR VOR/DME | *7000
*4400—MOCA |  | MAA—17500
ROSEBURG, OR VOR/DME | MERLI, OR FIX | *8000
*7500—MOCA |  | MAA—17500
MERLI, OR FIX | *PAPLE, OR FIX | **9000
*10100—MRA
**6500—MOCA |  | MAA—17500
PAPLE, OR FIX | *BAYTS, OR FIX | **10100
*10000—MRA
**7300—MOCA |  | MAA—17500
BAYTS, OR FIX | FORT JONES, CA VOR/DME | *10000
*9400—MOCA |  | MAA—17500
Is Added To Read
FORT JONES, CA VOR/DME | *BAYTS, OR FIX | **10000
*10000—MRA
**9400—MOCA |  | MAA—17500
BAYTS, OR FIX | *PAPLE, OR FIX | **10100
*10100—MRA
**7300—MOCA |  | MAA—17500
PAPLE, OR FIX | MERLI, OR FIX | *9000
*6500—MOCA |  | MAA—17500
MERLI, OR FIX | ROSEBURG, OR VOR/DME | *8000
*7500—MOCA |  | MAA—17500
ROSEBURG, OR VOR/DME | *VAUGN, OR FIX | **7000
*7000—MRA
**4400—MOCA |  | MAA—17500
VAUGN, OR FIX | HORTE, OR FIX
| S BND | 7000
| N BND | 4000
|  | MAA—17500
HORTE, OR FIX | CORVALLIS, OR VOR/DME | 4000
|  | MAA—17500
CORVALLIS, OR VOR/DME | NEWBERG, OR VOR/DME | *4000
*3400—MOCA |  | MAA—17500
NEWBERG, OR VOR/DME | BATTLE GROUND, WA VORTAC | 4000
|  | MAA—17500
BATTLE GROUND, WA VORTAC | *TOUTL, WA FIX
| N BND | **9000
| S BND | **5300
*9000—MCA TOUTL, WA FIX, N BND
**5300—GNSS MEA |  | MAA—17500
TOUTL, WA FIX | *ALDER, WA FIX | **9000
*9000—MCA ALDER, WA FIX, S BND
**7000—GNSS MEA |  | MAA—17500
ALDER, WA FIX | CIDUG, WA FIX
| S BND | *9000
| N BND | *5000
*4200—GNSS MEA |  | MAA—17500
CIDUG, WA FIX | SEATTLE, WA VORTAC
| S BND | *9000
| N BND | *5000
*3000—GNSS MEA |  | MAA—17500
§ 95.6586 VOR Federal Airway V586 Is Amended To Delete
PEORIA, IL VORTAC | MAROC, IL FIX | *3000
*2400—MOCA |  | MAA—17500
MAROC, IL FIX | PONTIAC, IL VOR/DME | 2500 MAA—17500
PONTIAC, IL VOR/DME | JOLIET, IL VOR/DME | *3000
*2300—MOCA |  | MAA—17500

From | To | MEA | MAA
§ 95.7001 Jet Routes
§ 95.7035 Jet Route J35 Is Amended To Delete
FARMINGTON, MO VORTAC | ST LOUIS, MO VORTAC | 18000 | 45000
ST LOUIS, MO VORTAC | SPINNER, IL VORTAC | 18000 | 45000
SPINNER, IL VORTAC | PONTIAC, IL VOR/DME | 18000 | 31000
PONTIAC, IL VOR/DME | JOLIET, IL VOR/DME | 18000 | 35000
JOLIET, IL VOR/DME | NORTHBROOK, IL VOR/DME | 18000 | 45000
§ 95.7101 Jet Route J101 Is Amended To Delete
SPINNER, IL VORTAC | PONTIAC, IL VOR/DME | 18000 | 31000
PONTIAC, IL VOR/DME | JOLIET, IL VOR/DME | 18000 | 35000
JOLIET, IL VOR/DME | NORTHBROOK, IL VOR/DME | 18000 | 45000
§ 95.7179 Jet Route J179 Is Amended To Delete
MIDDLETON ISLAND, AK VOR/DME | KENAI, AK VOR/DME | 18000 | 45000
KENAI, AK VOR/DME | SPARREVOHN, AK VOR/DME | 18000 | 45000
SPARREVOHN, AK VOR/DME | ANIAK, AK NDB | 18000 | 45000
ANIAK, AK NDB | ST MARYS, AK NDB | 18000 | 45000
ST MARYS, AK NDB | EMMONAK, AK VOR/DME | 18000 | 45000
§ 95.7211 Jet Route J211 Is Amended To Delete
JOHNSTOWN, PA VOR/DME | YOUNGSTOWN, OH VORTAC | 18000 | 45000
§ 95.7502 Jet Route J502 Is Amended To Delete
SEATTLE, WA VORTAC | U.S. CANADIAN BORDER | 18000 | 45000
U.S. CANADIAN BORDER | ANNETTE ISLAND, AK VOR/DME | 22000 | 45000
ANNETTE ISLAND, AK VOR/DME | LEVEL ISLAND, AK VOR/DME | 18000 | 45000
LEVEL ISLAND, AK VOR/DME | SISTERS ISLAND, AK VORTAC | 18000 | 45000
NORTHWAY, AK VORTAC | FAIRBANKS, AK VORTAC | 18000 | 45000
FAIRBANKS, AK VORTAC | KOTZEBUE, AK VOR/DME | *27000 | 45000
*MEA IS ESTABLISHED WITH A GAP IN NAVIGATION SIGNAL COVERAGE.
Is Added To Read
KOTZEBUE, AK VOR/DME | FAIRBANKS, AK VORTAC | *27000 | 45000
*MEA IS ESTABLISHED WITH A GAP IN NAVIGATION SIGNAL COVERAGE.
FAIRBANKS, AK VORTAC | NORTHWAY, AK VORTAC | 18000 | 45000
§ 95.7589 Jet Route J589 Is Amended To Delete
ROSEBURG, OR VOR/DME | CORVALLIS, OR VOR/DME | 18000 | 45000
CORVALLIS, OR VOR/DME | U.S. CANADIAN BORDER | 28000 | 45000

Airway segment: From | Airway segment: To | Changeover points: Distance | Changeover points: From
§ 95.8003 VOR Federal Airways Changeover Points
V495 Is Amended To Delete Changeover Point
WHATCOM, WA VORTAC | VICTORIA, CA VOR/DME | 10 | WHATCOM
SEATTLE, WA VORTAC | VICTORIA, CA VOR/DME | 50 | SEATTLE
§ 95.8005 Jet Routes Changeover Points
J502 Is Amended To Delete Changeover Point
SEATTLE, WA VORTAC | VICTORIA, CA VOR/DME | 50 | SEATTLE
J589 Is Amended To Delete Changeover Point
CORVALLIS, OR VOR/DME | VICTORIA, CA VOR/DME | 100 | CORVALLIS

[FR Doc. 2024-28429 Filed 12-6-24; 8:45 am]

BILLING CODE 4910-13-P